DEPARTMENT OF TRANSPORTATION

Federal Railroad Administration

Notice of Application for Approval of Discontinuance or Modification of a Railroad Signal System or Relief From Requirements

Pursuant to Title 49 Code of Federal Regulations (CFR) part 235 and 49 U.S.C. 20502(a), the following railroads have petitioned the Federal Railroad Administration (FRA) seeking approval for the discontinuance or modification of the signal system or relief from the requirements of 49 CFR part 236 as detailed below.

Docket No. FRA-2002-12907.

Applicant: Burlington Northern Santa Fe Railway, Mr. DJ Mitchell II, Assistant Vice President, 2600 Lou Menk Drive, P.O. Box 961034, Fort Worth, Texas 76161-0034.

Burlington Northern Santa Fe Railway (BNSF) seeks temporary relief from the requirements of Part 236, Section 236.566, of the Rules, Standard and Instructions, to the extent that BNSF be permitted to operate the non-equipped steam locomotive ATSF 3751, as the lead locomotive in consist, in automatic train stop (ATS) territory between Barstow, California, milepost 745.9 and Needles, California, milepost 578.0, on the Southern California Division, Needles Subdivision, and between Needles, California, milepost 578.0 and Williams, Arizona, milepost 374.3, on the Southwest Division, Seligman Subdivision, during August 19 through August 26, 2002, restricted to a maximum authorized speed of 70 mph.

Applicant's justification for relief: The National Railroad Historical Society is planning to operate a special train, with Amtrak as the contract operator, from Los Angeles, California to Williams, Arizona and return, during August 19-26, 2002, routed over the ATS equipped trackage.

Any interested party desiring to protest the granting of an application shall set forth specifically the grounds upon which the protest is made, and contain a concise statement of the interest of the party in the proceeding. Additionally, one copy of the protest shall be furnished to the applicant at the address listed above.

All communications concerning this proceeding should be identified by the docket number and must be submitted to the Docket Clerk, DOT Central Docket Management Facility, Room PI-401, Washington, DC 20590-0001. Due to the short time constraints, communications must be received as soon as possible from the date of this notice and will be considered by the FRA as far as practicable before final action is taken. All written communications concerning these proceedings are available for examination during regular business hours (9 a.m.-5 p.m.) at DOT Central Docket Management Facility, Room PI-401 (Plaza Level), 400 Seventh Street, SW., Washington, DC 20590-0001. All documents in the public docket are also available for inspection and copying on the internet at the docket facility's Web site at http://dms.dot.gov.

FRA expects to be able to determine these matters without an oral hearing. However, if a specific request for an oral hearing is accompanied by a showing that the party is unable to adequately present his or her position by written statements, an application may be set for public hearing.

Issued in Washington, DC, on July 23, 2002.
Edward W. Pritchard,
Acting Director, Office of Safety Assurance and Compliance.

[FR Doc. 02-19133 Filed 7-26-02; 8:45 am]

BILLING CODE 4910-06-P